DEPARTMENT OF THE TREASURY

Submission for OMB Review; Comment Request

November 20, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 2, 2001 to be assured of consideration.

Internal Revenue Service (IRS)

OMB Number: 1545-1144.

Form Number: IRS Form 706-GS(D).

Type of Review: Extension.

Title: Generation-Skipping Transfer Tax Return for Distributions.

Description: Form 706-GS(D) is used by the distributees to compute and report the Federal GST tax imposed by Internal Revenue Code (IRC) section 2601. IRS uses the information to enforce this tax and to verify that the tax has been properly computed.

Respondents: Individuals or households.

Estimated Number of Respondents/Recordkeepers: 1,000.

Estimated Burden Hours Per Respondent/Recordkeeper:

Recordkeeping | 6 min.
Learning about the law or the form | 13 min.
Preparing the form | 24 min.
Copying, assembling, and sending the form to the IRS | 20 min.

Frequency of Response: Annually.

Estimated Total Reporting/Recordkeeping Burden: 1,080 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 00-30590 Filed 11-30-00; 8:45 am]

BILLING CODE 4830-01-P